DEPARTMENT OF LABOR

Office of the Secretary

Submission for OMB Review; Comment Request

June 8, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at ((202) 219-8904 or Email Howze-Marlene@dol.gov.

Comments should be sent to Office of Information and Regulatory Affairs, Attn: OMB Desk Officer for ESA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Employment standards Administration (ESA).

Title: Survivor's Form for Benefits.

OMB Number: 1215-0069.

Affected Public: Individuals or households.

Frequency: One time.

Number of Respondents: 2,500.

Number of Annual Responses: 2,500.

Estimated Time Per Response: 8 minutes.

Total Burden Hours: 333.

Total Annualized Capital/Startup Costs: $0.

Total Annual Costs (operating/maintaining systems or purchasing services): $740.

Description: Survivors of Black Lung Act beneficiaries are entitled to be considered for benefits under 30 U.S.C. 901 of the Black Lung Benefits Act and 20 CFR 725.304. The collection of information is required to administer the benefit payment provisions of the Black Lung Benefits Act for survivors of deceased miners. Completion of this form constitutes the application for benefits by survivors and assists in determining the survivor's entitlement to benefits.

Ira L. Mills,
Departmental Clearance Officer.

[FR Doc. 01-15636 Filed 6-20-01; 8:45 am]

BILLING CODE 4510-CK-M